DEPARTMENT OF HOMELAND SECURITY

Federal Emergency Management Agency

[Docket ID FEMA-2020-0012]

Assistance to Firefighters Grant Program

AGENCY: Federal Emergency Management Agency (FEMA), Department of Homeland Security (DHS).

ACTION: Notice of availability.

SUMMARY: Pursuant to the Federal Fire Prevention and Control Act of 1974, as amended, the Administrator of FEMA is publishing this notice describing the Fiscal Year (FY) 2019 Assistance to Firefighters Grant (AFG) Program application process, deadlines, and award selection criteria. This notice explains the differences, if any, between these guidelines and those recommended by representatives of the national fire service leadership during the annual meeting of the Criteria Development Panel on Dec. 11, 2018. The application period for the FY 2019 AFG Program opened on Feb. 3, 2020 and will close on March 13, 2020, and was announced on the AFG website at https://www.fema.gov/welcome-assistance-firefighters-grant-program, as well as at www.grants.gov.

DATES: Grant applications for the Assistance to Firefighters Grant Program are being accepted electronically at https://go.fema.gov, from Feb. 3, 2020, through March 13, 2020, at 5 p.m. Eastern Time.

ADDRESSES: Assistance to Firefighters Grant Branch, DHS/FEMA, 400 C Street SW, 3N, Washington, DC 20472-3635.

FOR FURTHER INFORMATION CONTACT: Catherine Patterson, Branch Chief, Assistance to Firefighters Grant Branch, 1-866-274-0960.

SUPPLEMENTARY INFORMATION: The AFG Program awards grants directly to fire departments, non-affiliated emergency medical services (EMS) organizations, and State Fire Training Academies (SFTAs) for the purpose of enhancing the health and safety of first responders and improving their abilities to protect the public from fire and fire-related hazards.

Applications for the FY 2019 AFG Program are being submitted and processed online at https://go.fema.gov. Before the application period started, the FY 2019 AFG Notice of Funding Opportunity (NOFO) was published on the AFG website. The AFG website provides additional information and materials useful to applicants including Frequently Asked Questions, a Get Ready Guide, and a Quick Reference Guide. Based on past AFG application periods, FEMA anticipates receiving 10,000 to 15,000 applications for the FY 2019 AFG Program, and the ability to award approximately 2,500 grants.

Congressional Appropriations

For the FY 2019 AFG Program, Congress appropriated $350 million (Consolidated Appropriations Act, 2019, Pub. L. 116-6). From this amount, $315 million will be made available for AFG awards. In addition, Section 33 of the Federal Fire Prevention and Control Act of 1974, as amended (15 U.S.C. 2229), requires that a minimum of 10 percent of available funds be expended for Fire Prevention and Safety Grants (FP&S). FP&S awards will be made directly to local fire departments and to local, regional, state, or national entities recognized for their expertise in the fields of fire prevention and firefighter safety research and development. Funds appropriated for FY 2019 will be available for obligation and award until Sept. 30, 2020.

The Federal Fire Prevention and Control Act of 1974 further directs FEMA to administer these appropriations according to the following requirements:

• Career fire department: Not less than 25 percent of available grant funds.

• Volunteer fire department: Not less than 25 percent of available grant funds.

• Combination fire department and departments using paid-on-call firefighting personnel: Not less than 25 percent of available grant funds.

• Open competition (career, volunteer, and/or combination fire departments and departments using paid-on-call firefighting personnel): Not less than 10 percent of available grant funds awarded.

• Emergency Medical Services (EMS) providers including fire departments and nonaffiliated EMS organizations: Not less than 3.5 percent of available grant funds awarded, with nonaffiliated EMS providers receiving no more than 2 percent of the total available grant funds.

• State fire training academies: Not more than 3 percent of available grant funds shall be collectively awarded to State Fire Training Academy applicants, with a maximum of $500,000 per applicant.

• Vehicles: Not more than 25 percent of available grant funds may be used for the purchase of vehicles; 10 percent of those vehicle funds will be dedicated to the funding of ambulances. Vehicle funds will be distributed as equally as possible among urban, suburban, and rural community applicants.

• Micro grants: This is a voluntary funding limitation choice made by the applicant for requests submitted within the operations and safety activity; it is not an additional funding opportunity. Micro grants are awards that have a Federal participation (share) that does not exceed $50,000. Only fire departments and nonaffiliated EMS organizations are eligible to choose micro grants, and the only eligible micro grants requests are for training, equipment, personal protective equipment (PPE), and wellness and fitness activities. Applicants that select micro grants as a funding opportunity may receive additional consideration for award. If an applicant selects micro grants in their application, they will be limited in the total amount of funding their organization can be awarded; if they are requesting funding in excess of $50,000 Federal participation, they should not select micro grants.

Background of the AFG Program

Since 2001, AFG has helped firefighters and other first responders to obtain critically needed equipment, protective gear, emergency vehicles, training, and other resources needed to protect the public and emergency personnel from fire and related hazards. FEMA awards grants on a competitive basis to the applicants that best address the AFG Program's priorities and provide the most compelling justification. Applications that best address AFG priorities, as identified in the Application Evaluation Criteria, will be reviewed by a panel composed of fire service personnel.

AFG has three program activities:

• Operations and Safety

• Vehicle Acquisition

• Regional Projects

The priorities for each activity are fully outlined in the NOFO.

Application Evaluation Criteria

Prior to making a grant award, FEMA is required by 31 U.S.C. 3321 note, 41 U.S.C. 2313, and 2 CFR 200.205 to review information available through any Office of Management and Budget (OMB) designated repositories of government-wide eligibility qualification or financial integrity information. Therefore, application evaluation criteria may include the following risk-based considerations of the applicant: (1) Financial stability; (2) quality of management systems and ability to meet management standards; (3) history of performance in managing Federal awards; (4) reports and findings from audits; and (5) ability to effectively implement statutory, regulatory, or other requirements.

FEMA will rank all complete and submitted applications based on how well they match program priorities for the type of jurisdiction(s) served. Answers to activity specific questions provide information used to determine each application's ranking relative to the stated program priorities.

Funding priorities and criteria for evaluating AFG applications are established by FEMA based on the recommendations from the Criteria Development Panel (CDP). The CDP is comprised of fire service professionals who make recommendations to FEMA regarding the creation of new, or the modification of previously established, funding priorities, as well as developing criteria for awarding grants. The content of the NOFO reflects the implementation of CDP's recommendations with respect to the priorities and evaluation criteria for awards.

The nine major fire service organizations represented on the CDP:

• International Association of Fire Chiefs

• International Association of Fire Fighters

• National Volunteer Fire Council

• National Fire Protection Association

• National Association of State Fire Marshals

• International Association of Arson Investigators

• International Society of Fire Service Instructors

• North American Fire Training Directors

• Congressional Fire Service Institute

Review and Selection Process

AFG applications are reviewed through a multi-phase process. All applications are electronically pre-scored and ranked based on how well they align with the funding priorities outlined in this notice. Applications with the highest pre-score rankings are then scored competitively by (no less than three) members of the Peer Review Panel process. Applications will also be evaluated through a series of internal FEMA review processes for completeness, adherence to programmatic guidelines, technical feasibility, and anticipated effectiveness of the proposed project(s). Below is the process by which applications will be reviewed:

i. Pre-Scoring Process

The application undergoes an electronic pre-scoring process based on established program priorities listed within the NOFO and answers to activity specific questions within the online application. Application narratives are not reviewed during pre-scoring. Request details and budget information should comply with program guidance and statutory funding limitations. The pre-score is 50 percent of the total application score.

ii. Peer Review Panel Process

Applications with the highest pre-score will undergo peer review. The peer review is composed of fire service representatives recommended by CDP national organizations. The panelists assess the merits of each application based on the narrative section of the application, including the evaluation elements listed in the Narrative Evaluation Criteria below. Panelists will independently score each project within the application, discuss the merits and/or shortcomings of the application with his or her peers, and document the findings. A consensus is not required. The panel score is 50 percent of the total application score.

iii. Technical Evaluation Process

The highest ranked applications are considered within the fundable range. Applications that are in the fundable range undergo both a technical review by a subject-matter expert, as well as a FEMA AFG Branch review prior to being recommended for an award. The FEMA AFG Branch will assess the request with respect to costs, quantities, feasibility, eligibility, and recipient responsibility prior to recommending an application for award. Once the technical evaluation process is complete, the cumulative score for each application will be determined and FEMA will generate a final ranking of applications. FEMA will award grants based on this final ranking and the statutorily required funding limitations listed in this notice and the NOFO.

Narrative Evaluation Criteria

1. Financial Need (25 Percent)

Applicants should describe their financial need and how consistent it is with the intent of the AFG Program. This statement should include details describing the applicant's financial distress, summarized budget constraints, unsuccessful attempts to secure other funding, and proof that their financial distress is out of their control.

2. Project Description and Budget (25 Percent)

This statement should clearly explain the applicant's project objectives and the relationship between those objectives and the applicant's budget and risk analysis. The applicant should describe the activities, including program priorities or facility modifications, ensuring consistency with project objectives, the applicant's mission, and any national, State, and/or local requirements. Applicants should link the proposed expenses to operations and safety, as well as the completion of the project goals.

3. Operations and Safety/Cost Benefit (25 Percent)

Applicants should describe how they plan to address the operations and personal safety needs of their organization, including cost effectiveness and sharing assets. This statement should also include details about gaining the maximum benefits from grant funding by citing reasonable or required costs, such as specific overhead and administrative costs. The applicant's request should also be consistent with their mission and identify how funding will benefit their organization and personnel.

4. Statement of Effect/Impact on Daily Operations (25 Percent)

This statement should explain how these funds will enhance the organization's overall effectiveness. It should address how an award will improve daily operations and reduce the organization's risks. Applicants should include how frequently the requested items will be used, and in what capacity. Applicants should also indicate how the requested items will help the community and increase the organization's ability to save additional lives or property.

Eligible Applicants

Fire Departments: Fire departments operating in any of the 50 states, as well as fire departments in the District of Columbia, the Commonwealth of the Northern Mariana Islands, the U.S. Virgin Islands, Guam, American Samoa, the Commonwealth of Puerto Rico, or any federally-recognized Indian tribe or tribal organization.

A fire department is an agency or organization having a formally recognized arrangement with a state, territory, local, or tribal authority (city, county, parish, fire district, township, town, or other governing body) to provide fire suppression to a population within a geographically fixed primary first due response area.

Nonaffiliated EMS organizations: Nonaffiliated EMS organizations operating in any of the 50 states, as well as the District of Columbia, the Commonwealth of the Northern Mariana Islands, the U.S. Virgin Islands, Guam, American Samoa, the Commonwealth of Puerto Rico, or any federally-recognized Indian tribe or tribal organization.

A nonaffiliated EMS organization is an agency or organization that is a public or private nonprofit emergency medical services entity providing medical transport that is not affiliated with a hospital and does not serve a geographic area in which emergency medical services are adequately provided by a fire department.

FEMA considers the following as hospitals under the AFG Program:

• Clinics

• Medical centers

• Medical colleges or universities

• Infirmaries

• Surgery centers

• Any other institutions, associations, or foundations providing medical, surgical, or psychiatric care and/or treatment for the sick or injured.

State Fire Training Academies: A State Fire Training Academy (SFTA) operates in any of the 50 states, as well as the District of Columbia, the Commonwealth of the Northern Mariana Islands, the U.S. Virgin Islands, Guam, American Samoa, and the Commonwealth of Puerto Rico. Applicants must be designated either by legislation or by a Governor's declaration as the sole fire service training agency within a State, territory, or the District of Columbia. The designated SFTA shall be the only agency/bureau/division, or entity within that state, territory, or the District of Columbia.

Ineligibility

• To avoid a duplication of benefits, FEMA reserves the right to review all program activities or grant applications where two or more organizations share a single facility. To be eligible as a separate organization, two or more fire departments or nonaffiliated EMS organizations will have different funding streams, personnel rosters, or Employee Identification Numbers (EINs). If two or more organizations share facilities and each submits an application in the same program area (i.e., Equipment, Modify Facilities, Personal Protective Equipment, Training, and Wellness and Fitness Programs) FEMA will carefully review each program for eligibility.

• Fire-based EMS organizations are not eligible to apply as nonaffiliated EMS organizations. Fire-based EMS training and equipment must be requested by a fire department under the AFG component program Operations and Safety.

• Eligible applicants may submit only one application for each activity (e.g., Operations and Safety or Regional), but may submit for multiple projects within each activity. Under the Vehicle Activity, applicants may submit one application for vehicles for their department and one separate application to host a Regional vehicle. Duplicate applications (more than one application in the same activity) may be disqualified.

• An Operations and Safety applicant may submit one application for an eligible project (i.e., turn out gear); it may not submit a Regional application for the same project.

Statutory Limits to Funding

• Congress has enacted statutory limits to the amount of funding that a grant recipient may receive from the AFG Program in any single fiscal year (15 U.S.C. 2229(c)(2)) based on the population served. Awards will be limited based on the size of the population protected by the applicant, as indicated below. Notwithstanding the annual limits stated below, the FEMA Administrator may not award a grant in an amount that exceeds one percent of the available grant funds in such fiscal year, except where it is determined that such recipient has an extraordinary need for a grant in an amount that exceeds the one percent aggregate limit.

• In the case of a recipient that serves a jurisdiction with 100,000 people or fewer, the amount of available grant funds awarded to such recipient shall not exceed $1 million in any fiscal year.

• In the case of a recipient that serves a jurisdiction with more than 100,000 people, but not more than 500,000 people, the amount of available grant funds awarded to such recipient shall not exceed $2 million in any fiscal year.

• In the case of a recipient that serves a jurisdiction with more than 500,000, but not more than 1 million people, the amount of available grant funds awarded to such recipient shall not exceed $3 million in any fiscal year.

• In the case of a recipient that serves a jurisdiction with more than 1 million people but not more than 2.5 million people, the amount of available grant funds awarded to such recipient is subject to the one percent aggregate cap of $3.5 million for FY 2019, but FEMA may waive this aggregate cap in individual cases where FEMA determines that a recipient has an extraordinary need for a grant that exceeds the aggregate cap; if FEMA waives the aggregate cap, the amount of grant funds awarded to such recipient shall not exceed $6 million for any fiscal year.

• In the case of a recipient that serves a jurisdiction with more than 2.5 million people, the amount of available grant funds awarded to such recipient is subject to the one percent aggregate cap of $3.5 million for FY 2019, but FEMA may waive this aggregate cap in individual cases where FEMA determines that a recipient has an extraordinary need for a grant that exceeds the aggregate cap; if FEMA waives the aggregate cap, the amount of grant funds awarded to such recipient shall not exceed $9 million for any fiscal year.

• FEMA may not waive the population-based limits on the amount of grant funds awarded as set by 15 U.S.C. 2229(c)(2)(A).

The cumulative total of the Federal share of awards in Operations and Safety, Regional, and Vehicle Acquisition activities will be considered when assessing award amounts and any limitations thereto. Applicants may request funding up to the statutory limit on each of their applications.

For example, an applicant that serves a jurisdiction with more than 100,000 people, but not more than 500,000 people, may request up to $2 million on their Operations and Safety Application, and up to $2 million on their Vehicle Acquisition request. However, should both grants be awarded, the applicant would have to choose which award to accept if the cumulative value of both applications exceeds the statutory limits.

Cost Sharing and Maintenance of Effort

Grant recipients must share in the costs of the projects funded under this grant program as required by 15 U.S.C. 2229(k)(1) and in accordance with applicable Federal regulations at 2 CFR part 200, but they are not required to have the cost-share at the time of application nor at the time of award. However, before a grant is awarded, FEMA will contact potential awardees to determine whether the grant recipient has the funding in hand or if the grant recipient has a viable plan to obtain the funding necessary to fulfill the cost-sharing requirement.

In general, an eligible applicant seeking a grant shall agree to make available non-Federal funds equal to not less than 15 percent of the grant awarded. However, the cost share will vary as follows based on the size of the population served by the organization, with exceptions to this general requirement for entities serving smaller communities:

• Applicants that serve populations of 20,000 or less shall agree to make available non-Federal funds in an amount equal to not less than 5 percent of the grant awarded.

• Applicants serving areas with populations above 20,000, but not more than 1 million, shall agree to make available non-Federal funds in an amount equal to not less than 10 percent of the grant awarded.

• Applicants serving areas with populations above 1 million shall agree to make available non-Federal funds in an amount equal to not less than 15 percent of the grant awarded.

The cost share for SFTAs will apply the requirements above based on the total population of the State.

The cost share for a regional application will apply the requirements above based on the aggregate population of the primary first due response areas of the host and participating partner organizations that execute a Memorandum of Understanding as described in Appendix B, Section J, Regional projects, of the FY 2019 AFG NOFO.

On a case-by-case basis, FEMA may allow a grant recipient that may already own assets (equipment or vehicles), acquired with non-Federal cash, to use the trade-in allowance/credit value of those assets as “cash” for the purpose of meeting the cost-share obligation of their AFG award. In-kind, cost-share matches are not allowed.

Grant recipients under this grant program must also agree to a maintenance of effort requirement as required by 15 U.S.C. 2229(k)(3) (referred to as a “maintenance of expenditure” requirement in that statute). A grant recipient shall agree to maintain during the term of the grant the recipient's aggregate expenditures relating to the activities allowable under the NOFO at not less than 80 percent of the average amount of such expenditures in the two fiscal years preceding the fiscal year in which the grant amounts are received.

In cases of demonstrated economic hardship, and at the request of the grant recipient, the Administrator of FEMA may waive or reduce a grant recipient's cost share requirement or maintenance of expenditure requirement. AFG applicants for FY 2019 must indicate at the time of application whether they are requesting a waiver and whether the waiver is for the cost share requirement, for the maintenance of effort requirement, or both. As required by statute, the Administrator of FEMA is required to establish guidelines for determining what constitutes economic hardship. FEMA has published these guidelines at FEMA's website: https://www.fema.gov/media-library-data/1518026897046-483d76a37022b8a581ffb7d42fa9b17e/Eco_Hardship_Waiver_FPS_SAFER_AFG_IB_FINAL.pdf.

Prior to the start of the FY 2019 AFG application period, FEMA conducted applicant workshops and/or internet webinars to inform potential applicants about the AFG Program. In addition, FEMA provided applicants with information at the AFG website: https://www.fema.gov/welcome-assistance-firefighters-grant-program to help them prepare quality grant applications. The AFG Help Desk is staffed throughout the application period to assist applicants with the automated application process as well as assistance with any questions.

Applicants can reach the AFG Help Desk through a toll-free telephone number during normal business hours (1-866-274-0960) or email to firegrants@dhs.gov.

Application Process

Organizations may submit one application per application period in each of the three AFG program activities (e.g., one application for Operations and Safety, one for Vehicle Acquisition, and/or a separate application to be a Joint/Regional Project host). If an organization submits more than one application for any single AFG program activity (e.g., two applications for Operations and Safety, two for Vehicles, etc.), either intentionally or unintentionally, both applications may be disqualified.

Applicants may access the grant application electronically at https://portal.fema.gov. The application is also accessible from the U.S. Fire Administration's website, http://www.usfa.fema.gov, and at http://www.grants.gov. New applicants must register and establish a user name and password for secure access to the grant application. Previous AFG grant applicants must use their previously established user name and passwords.

Applicants can answer questions about their grant request that reflect the AFG funding priorities, described below. In addition, each applicant must complete four separate narratives for each project or grant activity requested. Grant applicants will also provide relevant information about their organization's characteristics, call volume, and existing organizational capabilities.

System for Award Management (SAM)

Per 2 CFR 25.200, all Federal grant applicants and recipients must register in https://SAM.gov. SAM is the Federal Government's System for Awards Management, and registration is free of charge. Applicants must maintain current information in SAM that is consistent with the data provided in their AFG grant application and in the Dun & Bradstreet (DUNS) database. FEMA may not accept any application, process any awards, and consider any payment or amendment requests, unless the applicant or grant recipient has complied with the requirements to provide a valid DUNS number and an active SAM registration. The grant applicant's banking information, EIN, organization/entity name, address, and DUNS number must match the same information provided in SAM.

Criteria Development Panel (CDP) Recommendations

If there are any differences between the published AFG guidelines and the recommendations made by the CDP, FEMA must explain them and publish the information in the Federal Register prior to awarding any grant under the AFG Program. For FY 2019, FEMA accepted, and will implement, all but two of the CDP's recommendations for the prioritization of eligible activities.

Adopted Recommendations for FY 2019

The FY 2019 AFG NOFO contains some changes to definitions, descriptions, and priority categories. Changes to the FY 2019 AFG NOFO include:

• Under Micro Grants:

○ Wellness and Fitness is now eligible as a micro and regional grant.

○ Modifications to Facilities activities are now eligible as a micro grant.

• Under Equipment category:

○ Training `props' are limited to $50,000 except for a State Fire Training Academy and Regional requests.

○ Learning Management Systems (LMS) to include software and computer programs for local departments and States to track training and certifications were added as high priority.

• Under Operation and Safety and Regional category:

○ Immediately Dangerous to Life or Health (IDLH), Protection for Fire Investigators (single-use respiratory protection) is added as high priority.

○ Definition of Primary First Due Response Area is updated to be consistent with National Fire Protection Association (NFPA) standard 1710 Current Edition. It is defined as the geographic area surrounding a fire station in which a company from that station is projected to be the first to arrive on the scene of an incident.

• Under Vehicle Acquisition:

○ Brush vehicles are now a high priority for urban, suburban, and rural communities. The only exception is for urban communities, a brush truck may not exceed Type III in specifications. This does not preclude a department from applying for a Type I urban interface pumper. Type I pumpers should be requested as a pumper and specified in the request as Type I.

Recommendations Not Adopted for FY 2019

• The panel recommended that fire departments implement a requirement where NFPA standards listed as 1582 physicals become a requirement for all awards. FEMA recommends evaluating the impact of this requirement prior to implementation. It will not be considered during the application review.

• The panel recommended that FEMA adopt new definitions for career and combination departments to align with NFPA changes in the 1710 and 1720 standards. FEMA is unable to adopt this recommendation as it conflicts with statutory definitions.

Authority: 15 U.S.C. 2229.

Pete Gaynor,
Administrator, Federal Emergency Management Agency.

[FR Doc. 2020-04860 Filed 3-9-20; 8:45 am]

BILLING CODE 9111-64-P